COMMISSION ON CIVIL RIGHTS

Agenda and Notice of Public Meeting of the West Virginia Advisory Committee; Correction

AGENCY: Commission on Civil Rights.

ACTION: Notice; correction.

SUMMARY: The Commission on Civil Rights published a notice in the Federal Register of June 15, 2016, concerning a meeting of the West Virginia Advisory Committee. The notice advised that the August 23, 2016 planning meeting will be conducted via telephone conference. In addition to listening to the discussion by calling a toll-free number, interested members of the public may attend the meeting in-person.

FOR FURTHER INFORMATION CONTACT: Ivy Davis, (202) 376-7533.

Additional Details of the August 23, 2016 Planning Meeting

In the Federal Register of June 15, 2016, in FR Doc. 2016-14128, on page 39022, add the following new paragraph after paragraph three, which ends with the conference call ID number. The new paragraph to read:

Interested members of the public may also attend the Tuesday, August 23, 2016 meeting in-person at the following address: Kanawha County Clerk's Office—Voter Registration Room, 1st Floor, 415 Quarrier Street, Charleston, WV 25301. The meeting convenes at 12:00 p.m. (EDT).

Dated: July 21, 2016.
David Mussatt,
Chief, Regional Programs Coordination Unit.

[FR Doc. 2016-17623 Filed 7-25-16; 8:45 am]

BILLING CODE 6335-01-P